DEPARTMENT OF TRANSPORTATION

Federal Aviation Administration

14 CFR Part 39

[Docket No. FAA-2014-0774; Directorate Identifier 2013-NM-154-AD; Amendment 39-18438; AD 2016-06-07]

RIN 2120-AA64

Airworthiness Directives; The Boeing Company Airplanes

AGENCY: Federal Aviation Administration (FAA), DOT.

ACTION: Final rule.

SUMMARY: We are superseding Airworthiness Directive (AD) 2006-22-15 for all The Boeing Company Model 747-100, 747-100B, 747-100B SUD, 747-200B, 747-200C, 747-200F, 747-300, 747-400, 747-400D, 747-400F, 747SR, and 747SP series airplanes. AD 2006-22-15 required repetitive inspections for cracking of certain panel webs and stiffeners of the nose wheel well (NWW), and corrective actions if necessary; and replacement of certain panels with new panels, which terminates the repetitive inspections. This new AD reduces a compliance time and adds certain inspections and an applicable repair. This AD was prompted by multiple reports of fatigue cracking in the NWW top panel and side panel webs and stiffeners. We are issuing this AD to prevent fatigue cracking of the NWW side and top panels, which could result in a NWW depressurization event severe enough to reduce the structural integrity of the fuselage.

DATES: This AD is effective April 22, 2016.

The Director of the Federal Register approved the incorporation by reference of certain publications listed in this AD as of April 22, 2016.

ADDRESSES: For service information identified in this final rule, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2014-0774.

Examining the AD Docket

You may examine the AD docket on the Internet at http://www.regulations.gov by searching for and locating Docket No. FAA-2014-0774; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Bill Ashforth, Aerospace Engineer, Airframe Branch, ANM-120S, FAA, Seattle Aircraft Certification Office (ACO), 1601 Lind Avenue SW., Renton, WA 98057-3356; phone: 425-917-6432; fax: 425-917-6590; email: Bill.Ashforth@faa.gov.

SUPPLEMENTARY INFORMATION:

Discussion

We issued a supplemental notice of proposed rulemaking (SNPRM) to amend 14 CFR part 39 to supersede AD 2006-22-15, Amendment 39-14812 (71 FR 64884, November 6, 2006) (“AD 2006-22-15”). AD 2006-22-15 applied to all The Boeing Company Model 747-100, 747-100B, 747-100B SUD, 747-200B, 747-200C, 747-200F, 747-300, 747-400, 747-400D, 747-400F, 747SR, and 747SP series airplanes. The SNPRM published in the Federal Register on September 18, 2015 (80 FR 56407) (“the SNPRM”). We preceded the SNPRM with a notice of proposed rulemaking (NPRM) that published in the Federal Register on November 17, 2014 (79 FR 68388) (“the NPRM”). The NPRM proposed to continue to require repetitive inspections for cracking of certain panel webs and stiffeners of the NWW, and corrective actions if necessary; and replacement of certain panels with new panels, which terminates the repetitive inspections. The NPRM proposed to reduce a compliance time and add certain inspections and repair if necessary. The NPRM was prompted by reports of fatigue cracking in the panel webs and stiffeners of the NWW found prior to the inspection threshold of AD 2006-22-15. The SNPRM revised the NPRM by specifying a repetitive inspection interval for a certain NWW area inspection. We are issuing this AD to prevent fatigue cracking of the NWW side and top panels, which could result in a NWW depressurization event severe enough to reduce the structural integrity of the fuselage.

Comments

We gave the public the opportunity to participate in developing this AD. The following presents the comments received on the SNPRM and the FAA's response to each comment.

Support for the SNPRM

Two commenters supported the SNPRM. One commenter stated that the FAA should continue to execute its administrative power to ensure traveler safety and industry compliance, adding that while the original rule was good, ensuring that specifics are covered and timetables are available is an important improvement.

Request for Credit for Compliance Times in Previously Approved Alternative Methods of Compliance (AMOCs)

Boeing requested that we allow credit for the compliance times in previously approved AMOCs, if the compliance times are acceptable according to the SNPRM.

We agree with the commenter's request. We have revised paragraph (p)(4) of this AD to state that: AMOC actions approved previously for AD 2006-22-15 are approved as AMOCs for the corresponding actions of this AD. In addition, paragraph (p)(4) of this AD states that the compliance times in AMOCs approved previously for AD 2006-22-15 are not approved for the corresponding actions and compliance times in this AD, if this AD specifies an earlier compliance time than that specified in AD 2006-22-15; and that compliance times in AMOCs approved previously for AD 2006-22-15 that meet the requirements of this AD are acceptable.

Conclusion

We reviewed the relevant data, considered the comments received, and determined that air safety and the public interest require adopting this AD with the change described previously and minor editorial changes. We have determined that these minor changes:

• Are consistent with the intent that was proposed in the SNPRM for correcting the unsafe condition; and

• Do not add any additional burden upon the public than was already proposed in the SNPRM.

We also determined that these changes will not increase the economic burden on any operator or increase the scope of this AD.

Related Service Information Under1 CFR Part 51

We reviewed the following Boeing service bulletins.

• Boeing Alert Service Bulletin 747-53A2808, dated November 30, 2012. This service information describes procedures for replacement of the side and top panel webs, support beams, and stiffeners of the NWW; an inspection for cracking of the attaching structural elements that are common to the removed top and side panels of the NWW; repetitive post-modification inspections for cracks in the top and side panel webs and stiffeners; and repairs.

• Boeing Service Bulletin 747-53A2465, Revision 5, dated July 11, 2013. This service information describes procedures for doing inspections for cracking of the NWW side panel and top panel webs and longitudinal stiffeners for cracks, and related investigative and corrective actions.

• Boeing Service Bulletin 747-53A2562, Revision 3, dated July 11, 2013. This service information describes procedures for replacement of the side and top panel webs and certain stiffeners of the NWW; an inspection for cracks in attaching structural elements that are common to the removed top panel and side panels; repetitive post-modification inspections for cracks in the top and side panel webs and stiffeners; and repairs.

This service information is reasonably available because the interested parties have access to it through their normal course of business or by the means identified in the ADDRESSES section.

Costs of Compliance

We estimate that this AD will affect 255 airplanes of U.S. registry.

We estimate the following costs to comply with this AD:

Estimated Costs
Action | Labor cost | Parts cost | Cost per product | Cost on U.S. operators
Inspections [actions retained from AD 2006-22-15] | 119 work-hours × $85 per hour = $10,115 per inspection cycle | $0 | $10,115 per inspection cycle | $2,579,325 per inspection cycle.
Modification [actions retained from AD 2006-22-15] | Up to 1,346 work-hours × $85 per hour = $114,410 | Up to $144,248 | Up to $258,658 | Up to $65,957,790.
Post-modification Inspections [new action] | 119 work-hours × $85 per hour = $10,115 per inspection cycle | $0 | $10,115 per inspection cycle | $2,579,325 per inspection cycle.

We have received no definitive data that would enable us to provide cost estimates for the on-condition actions specified in this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2006-22-15, Amendment 39-14812 (71 FR 64884, November 6, 2006) (“AD 2006-22-15”), and adding the following new AD:

2016-06-07 The Boeing Company: Amendment 39-18438; Docket No. FAA-2014-0774; Directorate Identifier 2013-NM-154-AD.

(a) Effective Date

This AD is effective April 22, 2016.

(b) Affected ADs

This AD replaces AD 2006-22-15, Amendment 39-14812 (71 FR 64884, November 6, 2006) (“AD 2006-22-15”).

(c) Applicability

This AD applies to all The Boeing Company Model 747-100, 747-100B, 747-100B SUD, 747-200B, 747-200C, 747-200F, 747-300, 747-400, 747-400D, 747-400F, 747SR, and 747SP series airplanes, certificated in any category.

(d) Subject

Air Transport Association (ATA) of America Code 53, Fuselage.

(e) Unsafe Condition

This AD was prompted by multiple reports of cracking in the nose wheel well (NWW) top panel and side panel webs and stiffeners. We are issuing this AD to prevent fatigue cracking of the NWW side and top panels, which could result in a NWW depressurization event severe enough to reduce the structural integrity of the fuselage.

(f) Compliance

Comply with this AD within the compliance times specified, unless already done.

(g) Repetitive Inspections and Corrective Actions With New Compliance Times

Except as specified in paragraphs (h)(1) and (h)(2) of this AD, at the applicable time specified in paragraph 1.E., “Compliance,” of Boeing Service Bulletin 747-53A2465, Revision 5, dated July 11, 2013: Do the actions specified in paragraphs (g)(1), (g)(2), and (g)(3) of this AD, and do all applicable related investigative and corrective actions; in accordance with the Accomplishment Instructions of Boeing Service Bulletin 747-53A2465, Revision 5, dated July 11, 2013, except as specified in paragraph (h)(3) of this AD. Do all applicable related investigative and corrective actions before further flight. Repeat the inspections specified in paragraphs (g)(1), (g)(2), and (g)(3) of this AD thereafter at the applicable intervals specified in paragraph 1.E., “Compliance,” of Boeing Service Bulletin 747-53A2465, Revision 5, dated July 11, 2013. The repetitive interval for the inspection of Area 2 specified in table 1 in paragraph 1.E., “Compliance,” of Boeing Service Bulletin 747-53A2465, Revision 5, dated July 11, 2013, is 1,000 flight cycles. In table 2 and table 3 in paragraph 1.E., “Compliance,” of Boeing Service Bulletin 747-53A2465, Revision 5, dated July 11, 2013, the date “January 27, 2005,” is the effective date of AD 2004-25-23, Amendment 39-13911 (69 FR 76839, December 23, 2004); and the date “May 10, 2005,” is the effective date of AD 2005-09-02, Amendment 39-14070 (70 FR 21141, April 25, 2005; corrected May 25, 2005 (70 FR 29940)).

(1) Do an external detailed inspection for cracks of the top and sidewall panel webs of the NWW (specified as Area 1 and Area 2 in Boeing Service Bulletin 747-53A2465, Revision 5, dated July 11, 2013).

(2) Do internal detailed and surface high frequency eddy current (HFEC) inspections for cracks of the sidewall panel and top panel stiffeners of the NWW (specified as Area 3 in Boeing Service Bulletin 747-53A2465, Revision 5, dated July 11, 2013).

(3) Do an external detailed and ultrasonic testing (UT) inspection for cracks of the top and sidewall panel webs of the NWW (specified as Area 1 and Area 2 in Boeing Service Bulletin 747-53A2465, Revision 5, dated July 11, 2013).

(h) Exceptions to Boeing Service Bulletin 747-53A2465, Revision 5, Dated July 11, 2013

(1) Table 1 in paragraph 1.E., “Compliance,” of Boeing Service Bulletin 747-53A2465, Revision 5, dated July 11, 2013, applies to airplanes with less than 15,000 total flight cycles “as of the Revision 5 date of this service bulletin.” For this AD, however, table 1 applies to airplanes with the specified total flight cycles as of the effective date of this AD.

(2) Table 1 in paragraph 1.E., “Compliance,” of Boeing Service Bulletin 747-53A2465, Revision 5, dated July 11, 2013, specifies a compliance time of “13,000 total flight-cycles,” or “within 1,000 flight cycles after the Revision 5 date of this service bulletin,” whichever occurs later. This AD requires compliance before the accumulation of 10,000 total flight cycles or within 1,000 flight cycles after the effective date of this AD, whichever occurs later.

(3) If any cracking or damage is found during any inspection required by paragraph (g) of this AD, and Boeing Service Bulletin 747-53A2465, Revision 5, dated July 11, 2013, specifies to contact Boeing for appropriate action: Before further flight, repair the cracking or damage using a method approved in accordance with the procedures specified in paragraph (p) of this AD.

(i) NWW Modification

For airplanes identified in Boeing Service Bulletin 747-53A2562, Revision 3, dated July 11, 2013: At the applicable time specified in paragraph 1.E., “Compliance,” of Boeing Service Bulletin 747-53A2562, Revision 3, dated July 11, 2013, replace the left-side, right-side, and top panels of the NWW, as applicable, with new panels, in accordance with the Accomplishment Instructions of Boeing Service Bulletin 747-53A2562, Revision 3, dated July 11, 2013. As of the effective date of this AD, concurrently with doing the replacement specified in Boeing Service Bulletin 747-53A2562, Revision 3, dated July 11, 2013, do a detailed inspection for any cracks or damage (including, but not limited to, dents and corrosion) in all attaching structural elements that are common to the removed top panel and side panels, as applicable, and do all applicable corrective actions, in accordance with the Accomplishment Instructions of Boeing Service Bulletin 747-53A2562, Revision 3, dated July 11, 2013. If any crack or damage is found, before further flight, repair the cracking or damage using a method approved in accordance with the procedures specified in paragraph (p) of this AD. In paragraph 1.E., “Compliance,” of Boeing Service Bulletin 747-53A2562, Revision 3, dated July 11, 2013, the date “December 11, 2006,” is the effective date of AD 2006-22-15.

(j) Repetitive Post-Modification Inspections

For airplanes on which the replacement specified in paragraph (i) of this AD has been done: Except as required by paragraph (k) of this AD, at the applicable time specified in paragraph 1.E., “Compliance,” of Boeing Service Bulletin 747-53A2562, Revision 3, dated July 11, 2013, do the actions specified in paragraphs (j)(1), (j)(2), and (j)(3) of this AD. If any crack is found: Before further flight, repair the cracking using a method approved in accordance with the procedures specified in paragraph (p) of this AD. Repeat the inspections specified in paragraphs (j)(1), (j)(2), and (j)(3) of this AD thereafter at the applicable intervals specified in paragraph 1.E., “Compliance,” of Boeing Service Bulletin 747-53A2562, Revision 3, dated July 11, 2013.

(1) Do an external detailed inspection for cracks in the side panel webs, in accordance with the Accomplishment Instructions of Boeing Service Bulletin 747-53A2562, Revision 3, dated July 11, 2013.

(2) Do an internal detailed inspection and high frequency eddy current (HFEC) inspection for cracks in the top and side panel stiffeners, in accordance with the Accomplishment Instructions of Boeing Service Bulletin 747-53A2562, Revision 3, dated July 11, 2013.

(3) Do an external detailed inspection for cracks in the top panel web, in accordance with the Accomplishment Instructions of Boeing Service Bulletin 747-53A2562, Revision 3, dated July 11, 2013.

(k) Exception to Boeing Service Bulletin 747-53A2562, Revision 3, Dated July 11, 2013

Where paragraph 1.E., “Compliance,” of Boeing Service Bulletin 747-53A2562, Revision 3, dated July 11, 2013, specifies a compliance time relative to the “Revision 3 date of this service bulletin,” this AD requires compliance within the specified compliance time after the effective date of this AD.

(l) NWW Modification for Certain Airplanes

For airplanes identified in Boeing Alert Service Bulletin 747-53A2808, dated November 30, 2012: At the applicable time specified in paragraph 1.E., “Compliance,” of Boeing Alert Service Bulletin 747-53A2808, dated November 30, 2012, replace the left side, right side, and top panels of the NWW, as applicable, with new panels, in accordance with the Accomplishment Instructions of Boeing Alert Service Bulletin 747-53A2808, dated November 30, 2012. Concurrently with doing the replacement specified in this paragraph, do a detailed inspection for cracks of the attaching structural elements that are common to the removed top, left side, and right side panels of the NWW, in accordance with the Accomplishment Instructions of Boeing Alert Service Bulletin 747-53A2808, dated November 30, 2012. If any crack is found, before further flight, repair the cracking using a method approved in accordance with the procedures specified in paragraph (p) of this AD.

(m) Repetitive Post-Modification Inspections for Certain Airplanes

For airplanes on which the replacement specified in paragraph (l) of this AD has been done: At the applicable time specified in paragraph 1.E., “Compliance,” of Boeing Alert Service Bulletin 747-53A2808, dated November 30, 2012, do the actions specified in paragraphs (m)(1), (m)(2), and (m)(3) of this AD. If any crack is found: Before further flight, repair the cracking using a method approved in accordance with the procedures specified in paragraph (p) of this AD. Repeat the inspections specified in paragraphs (m)(1), (m)(2), and (m)(3) of this AD thereafter at the applicable intervals specified in paragraph 1.E., “Compliance,” of Boeing Alert Service Bulletin 747-53A2808, dated November 30, 2012.

(1) Do an external detailed inspection for cracks in the side panel webs, in accordance with the Accomplishment Instructions of Boeing Alert Service Bulletin 747-53A2808, dated November 30, 2012.

(2) Do an internal detailed inspection and HFEC inspection for cracks in the top and side panel stiffeners, in accordance with the Accomplishment Instructions of Boeing Alert Service Bulletin 747-53A2808, dated November 30, 2012.

(3) Do an external detailed inspection for cracks in the top panel web, in accordance with the Accomplishment Instructions of Boeing Alert Service Bulletin 747-53A2808, dated November 30, 2012.

(n) Terminating Action for Certain Repetitive Inspections

Replacing the left side, right side, and top panels of the NWW with new panels as specified in paragraph (i) or (l) of this AD terminates the repetitive inspections required by paragraph (g) of this AD.

(o) Credit for Previous Actions

(1) This paragraph restates the credit given in paragraph (k) of AD 2006-22-15.

(i) This paragraph provides credit for the actions required by paragraph (g)(1) of this AD, if those actions were performed before January 27, 2005 (the effective date of AD 2004-25-23, Amendment 39-13911 (69 FR 76839, December 23, 2004)), using Boeing Alert Service Bulletin 747-53A2465, dated April 5, 2001, which is not incorporated by reference in this AD.

(ii) This paragraph provides credit for actions required by paragraphs (g)(1) and (g)(2) of this AD, if those actions were performed before December 11, 2006 (the effective date of AD 2006-22-15), using a service bulletin identified in paragraph (o)(1)(ii)(A), (o)(1)(ii)(B), or (o)(1)(ii)(C) of this AD, which are not incorporated by reference in this AD.

(A) Boeing Alert Service Bulletin 747-53A2465, Revision 1, dated October 16, 2003.

(B) Boeing Alert Service Bulletin 747-53A2465, Revision 2, dated November 11, 2004.

(C) Boeing Alert Service Bulletin 747-53A2465, Revision 3, dated December 23, 2004.

(2) This paragraph provides credit for the actions required by paragraph (g) of this AD, if those actions were performed before the effective date of this AD using Boeing Alert Service Bulletin 747-53A2465, Revision 4, dated February 24, 2005, which is not incorporated by reference in this AD.

(3) This paragraph provides credit for the actions required by paragraphs (i) and (j) of this AD, if those actions were performed before the effective date of this AD using the service information identified in paragraph (o)(3)(i) or (o)(3)(ii) of this AD.

(i) Boeing Service Bulletin 747-53A2562, Revision 1, dated July 28, 2005, which was incorporated by reference in AD 2006-22-15.

(ii) Boeing Service Bulletin 747-53A2562, Revision 2, dated May 31, 2007, which is not incorporated by reference in this AD.

(p) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (q)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO, to make those findings. To be approved, the repair method, modification deviation, or alteration deviation must meet the certification basis of the airplane, and the approval must specifically refer to this AD.

(4) AMOC actions approved previously for AD 2006-22-15 are approved as AMOCs for the corresponding actions of this AD. The compliance times in AMOCs approved previously for AD 2006-22-15 are not approved for the corresponding actions and compliance times in this AD, if this AD specifies an earlier compliance time than that specified in AD 2006-22-15. Compliance times in AMOCs approved previously for AD 2006-22-15 that meet the requirements of this AD are acceptable.

(q) Related Information

(1) For more information about this AD, contact Bill Ashforth, Aerospace Engineer, Airframe Branch, ANM-120S, FAA, Seattle ACO, 1601 Lind Avenue SW., Renton, WA 98057-3356; phone: 425-917-6432; fax: 425-917-6590; email: Bill.Ashforth@faa.gov.

(2) Service information identified in this AD that is not incorporated by reference is available at the addresses specified in paragraphs (r)(3) and (r)(4) of this AD.

(r) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 747-53A2808, dated November 30, 2012.

(ii) Boeing Service Bulletin 747-53A2465, Revision 5, dated July 11, 2013.

(iii) Boeing Service Bulletin 747-53A2562, Revision 3, dated July 11, 2013.

(3) For Boeing service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 9, 2016.
Michael Kaszycki,
Acting Manager, Transport Airplane Directorate, Aircraft Certification Service.

[FR Doc. 2016-06001 Filed 3-17-16; 8:45 am]

BILLING CODE 4910-13-P